FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET date | Trans No. | ET req status | Party name
01-JUN-10 | 20100246 | G | Francisco Partners, L.P.
|  | G | Inovis International, Inc.
|  | G | Inovis International, Inc.
| 20100657 | G | AMETEK, Inc.
|  | G | Pfingsten Executive QP Fund III, L.P.
|  | G | TSE Acquisition Corporation.
| 20100692 | G | Hewlett-Packard Company.
|  | G | Palm, Inc.
|  | G | Palm, Inc.
| 20100718 | G | Industrial Growth Partners III, L.P.
|  | G | Fred H. Stubblefield, III.
|  | G | Controls Southeast, Inc.
| 20100720 | G | Veraz Networks, Inc.
|  | G | Dialogic Corporation.
|  | G | Dialogic Corporation.
| 20100722 | G | Mill Road Capital, L.P.
|  | G | Rubio's Restaurants, Inc.
|  | G | Rubio's Restaurants, Inc.
| 20100723 | G | Thomas H. Lee Equity Fund VI, L.P.
|  | G | inVentiv Health, Inc.
|  | G | inVentiv Health, Inc.
| 20100727 | G | Leonard A, Lauder.
|  | G | SBX, LLC.
|  | G | SBX Holding Company.
| 20100728 | G | NRG Energy, Inc.
|  | G | Pinnacle West Capital Corporation.
|  | G | Northwind Phoenix, LLC.
| 20100730 | G | Providence Equity Partners VI, L.P.
|  | G | Virtual Radiologic Corporation.
|  | G | Virtual Radiologic Corporation.
03-JUN-10 | 20100702 | G | LifePoint Hospitals, Inc.
|  | G | Sumner Regional Health Systems, Inc.
|  | G | Frank T. Rutherford Memorial Hospital, Inc.
|  | G | Sumner Homecare and Hospice, LLC.
|  | G | Trousdale Medical Center, Inc.
|  | G | SRHS Holdings, LLC.
|  | G | Family Wellness Group of Middle Tennessee, LLC.
|  | G | Wellness, Inc.
|  | G | SST Community Health, LLC.
|  | G | ClinicCare, LLC.
|  | G | Patient Partners, LLC.
| 20100735 | G | Lexmark International, Inc.
|  | G | Perceptive Software Inc.
|  | G | Perceptive Software Inc.
04-JUN-10 | 20100689 | G | Blue Point Capital Partners II, L.P.
|  | G | Jeffrey A. Kaiser.
|  | G | Kaiser Contract Cleaning Specialist, Inc.
|  | G | Canadian Contract Cleaning Specialists, Inc.
07-JUN-10 | 20100724 | G | Boralex Inc.
|  | G | Boralex Power Income Fund.
|  | G | Boralex Power Income Fund.
| 20100729 | G | Annand and Divvyani A. Sarnaaik.
|  | G | DecisionOne Corporation.
|  | G | DecisionOne Corporation.
| 20100736 | G | ArcLight Energy Partners Fund III, L.P.
|  | G | KGen Power Corporation.
|  | G | KGen Sandersville LLC.
| 20100737 | G | Cerberus Institutional Partners, L.P.
|  | G | Caritas Christi.
|  | G | Caritas Christi.
| 20100743 | G | Discovery Communications, Inc.
|  | G | Oprah Winfrey.
|  | G | Harpo, Inc.
| 20100745 | G | Xerox Corporation.
|  | G | Hewlett Packard Company.
|  | G | ExcellerateHRO LLP.
| 20100747 | G | Harvest Partners V, L.P.
|  | G | H.I.G. Capital Partners IV, L.P.
|  | G | IG Staffing Holdings, Inc.
| 20100751 | G | Alliance Data Systems Corporation.
|  | G | Equifax Inc.
|  | G | Equifax Inc.
09-JUN-10 | 20100759 | G | Genstar Capital Partners V, L.P.
|  | G | NT Investor Holdings Inc.
|  | G | NT Investor Holdings, Inc.
11-JUN-10 | 20100744 | G | Cisco Systems, Inc.
|  | G | CoreOptics, Inc.
|  | G | CoreOptics, Inc.
| 20100765 | G | Kettering Adventist HealthCare dba Kettering Health Network.
|  | G | Fort Hamilton Hospital Holding Company.
|  | G | Fort Hamilton Hospital.
| 20100775 | G | The Hearst Family Trust.
|  | G | iCrossing, Inc.
|  | G | iCrossing, Inc.
| 20100778 | G | Agfa-Gevaert N.V.
|  | G | Harold M. Pitman Company.
|  | G | Harold M. Pitman Company.
| 20100786 | G | Sunoco Logistics Partners L.P.
|  | G | Texon Holding II LP.
|  | G | Texon Butane Blending LLC.
14-JUN-10 | 20100749 | G | Harmonic Inc.
|  | G | G Omneon, Inc.
|  | G | Omneon, Inc.
| 20100773 | G | Rakuten, Inc.
|  | G | Scott A. Blum.
|  | G | Buy.com Inc.
15-JUN-10 | 20100757 | G | Koch Industries, Inc.
|  | G | George F. Landegger.
|  | G | Alabama Pine Pulp Company, Inc.
|  | G | Alabama River Group, Inc.
|  | G | Alabama River Pulp Company, Inc.
|  | G | Alabama River Woodlands, Inc.
|  | G | Alabama River Crude Tall Oil, Inc.
|  | G | Alabama Pine Investments, Inc.
|  | G | Independence Renewable Energy Corp.
|  | G | Alabama River Chip Mills, Inc.
| 20100787 | G | Terteling Holding Company.
|  | G | Halton Co.
|  | G | Halton Co.
| 20100789 | G | Doyle Family Limited Partnership.
|  | G | Halton Co.
|  | G | Halton Co.
| 20100792 | G | Warburg Pincus Private Equity X, L.P.
|  | G | Sterling Financial Corporation.
|  | G | Sterling Financial Corporation.
| 20100794 | G | TOTAL S.A.
|  | G | Amyris Biotechnologies, Inc.
|  | G | Amyris Biotechnologies, Inc.
16-JUN-10 | 20100712 | G | Xcel Energy Inc.
|  | G | Calpine Corporation.
|  | G | Blue Spruce Energy Center, LLC.
|  | G | Rocky Mountain Energy Center, LLC.
| 20100748 | G | MFI Holding Corporation.
|  | G | Thomas H. Lee Equity Fund V, L.P.
|  | G | M-Foods Holdings, Inc.
| 20100753 | G | St. Jude Medical, Inc.
|  | G | Goodman Co., Ltd.
|  | G | LightLab Imaging, Inc.
| 20100758 | G | Thoma Cressey Fund VIII, L.P.
|  | G | Double-Take Software, Inc.
|  | G | Double-Take Software, Inc.
| 20100763 | G | Alfred C. Liggins, III.
|  | G | TVOne,LLC.
|  | G | TVOne,LLC.
| 20100779 | G | Edward S. Lampert.
|  | G | AutoNation, Inc.
|  | G | AutoNation, Inc.
| 20100780 | G | Edward S. Lampert.
|  | G | Sears Holdings Corp.
|  | G | Sears Holdings Corp.
| 20100781 | G | Edward S. Lampert,
|  | G | AutoZone, Inc.
|  | G | AutoZone, Inc.
| 20100782 | G | Apollo Investment Fund V, L.P.
|  | G | JPMorgan Chase & Co.
|  | G | Connexions Loyalty Travel Solutions, LLC.
|  | G | OEP TAG Holdings, LLC.
|  | G | Loyalty Travel Agency, LLC.
17-JUN-10 | 20100750 | G | C. R. Bard, Inc.
|  | G | SenoRx, Inc.
|  | G | SenoRx, Inc.
18-JUN-10 | 20100790 | G | Merit Medical Systems, Inc.
|  | G | BioSphere Medical, Inc.
|  | G | BioSphere Medical, Inc.
| 20100795 | G | Carlyle Global Financial Services Partners, LP.
|  | G | Hampton Roads Bankshares, Inc.
|  | G | Hampton Roads Bankshares, Inc.
| 20100804 | G | BM&FBOVESPA S.A.-Bolsa de Valores, Mecadorias.
|  | G | e Futuros.
|  | G | CME Group Inc.
|  | G | CME Group Inc.
| 20100809 | G | Centrica plc.
|  | G | Clockwork Home Services, Inc.
|  | G | Clockwork Home Services, Inc.
| 20100813 | G | ConocoPhillips.
|  | G | Energy Spectrum Partners IV LP.
|  | G | CERITAS Gathering Company, LP.
| 20100814 | G | Spectra Energy Corp.
|  | G | Energy Spectrum Partners IV LP.
|  | G | CERITAS Gathering Company, LP.
| 20100817 | G | TPG Vienna Holdings, LLC.
|  | G | Heliman & Friedman Capital Partners V, L.P.
|  | G | VF Holding Corp.
21-JUN-10 | 20100822 | G | Thoma Bravo Fund IX, L.P.
|  | G | SonicWALL, Inc.
|  | G | SonicWALL, Inc.
22-JUN-10 | 20100770 | G | BAE Systems plc.
|  | G | JFL-AMH Co-Invest Partners, L.P.
|  | G | Atlantic Marine Holding Company.
24-JUN-10 | 20100799 | G | JANA Offshore Partners, Ltd.
|  | G | Charles River Laboratories International, Inc.
|  | G | Charles River Laboratories International, Inc.
| 20100800 | G | Markit Group Holdings Limited.
|  | G | The Goldman Sachs Group, Inc.
|  | G | WSOD Holding Corporation.
| 20100801 | G | British Airways Plc.
|  | G | Iberia, Lineas Aereas de Espana, S.A.
|  | G | Iberia, Lineas Aereas de Espana, S.A.
| 20100802 | G | Iberia, Lineas Aereas de Espana, S.A.
|  | G | British Airways Plc.
|  | G | British Airways Plc.
| 20100805 | G | Endo Pharmaceuticals Holdings Inc.
|  | G | HealthTronics, Inc.
|  | G | HealthTronics, Inc.
| 20100808 | G | OCP Trust.
|  | G | Logibec Groupe Informatique Ltee.
|  | G | Logibec Groupe Informatique Ltee.
| 20100812 | G | Primo Water Corporation.
|  | G | Clayton, Dubilier & Rice Fund VI, L.P.
|  | G | Culligan Store Soiutions, LLC.
| 20100816 | G | FS Equity Partners VI, L.P.
|  | G | Behrman Capital II L.P.
|  | G | BECO Holding Company, Inc.
| 20100819 | G | R3 Treatment Holdings Inc.
|  | G | Blue Sage Capital, L.P.
|  | G | Controlled Recovery, Inc.
|  | G | CRI Holdings, LLC.
25-JUN-10 | 20100764 | G | ConAgra Foods, Inc.
|  | G | American Pie Holding Co.
|  | G | American Pie LLC.
| 20100774 | G | United Technologies Corporation.
|  | G | Sorenson Capital Partners, L.P.
|  | G | LifePort Holding Corporation.
| 20100791 | G | ABB Ltd.
|  | G | K-TEK Holding Corp.
|  | G | K-TEK Holding Corp.
| 20100796 | G | Noam Gottesman.
|  | G | Man Group plc.
|  | G | Man Group plc.
| 20100797 | G | ARYZTA AG.
|  | G | Lindsay Goldberg & Bessemer L.P.
|  | G | FSB Global Holdings, Inc.
| 20100829 | G | Global Partners LP.
|  | G | Exxon Mobil Corporation.
|  | G | Exxon Mobil Corporation.
| 20100830 | G | Alaska USA Federal Credit Union.
|  | G | Arrowhead Central Credit Union.
|  | G | Arrowhead Central Credit Union.
| 20100833 | G | ASP V Alternative Investments, L.P.
|  | G | Energy Spectrum Partners V, LP.
|  | G | Laser Northeast Gathering Company LLC.
|  | G | Laser Midstream Energy, LP.

FOR FURTHER INFORMATION CONTACT: Sandra M. Peay, Contact Representative or Renee Chapman, Contact Representative.

Federal Trade Commission, Premerger Notification Office, Bureau Of Competition, Room H-303 Washington, DC 20580, (202) 326-3100.

By direction of the Commission.
Donald S. Clark,
Secretary.

[FR Doc. 2010-17051 Filed 7-14-10; 8:45 am]

BILLING CODE 6750-01-M